DEPARTMENT OF HEALTH AND HUMAN SERVICES

Administration for Children and Families

[CFDA Number: 93.570]

Announcement of Intent To Award Supplement to El Pajaro Community Development Corporation, in Watsonville, CA

AGENCY: Office of Community Services, Administration for Children and Families (ACF), Department of Health and Human Services (HHS).

ACTION: Notice of issuance of a supplement.

SUMMARY: The ACF, OCS, Division of Discretionary Programs announces the intent to award a supplement in the amount of $196,633 to the El Pajaro Community Development Corporation (EPCDC), in Watsonville, CA, to support the renovation of a building, into a shared commercial kitchen and a food packing facility.

DATES: The period of support is from September 30, 2021, to September 29, 2022.

FOR FURTHER INFORMATION CONTACT: Lynda E. Perez, Director, Division of Community Discretionary and Demonstration Programs, 330 C Street SW, Washington, DC 20201, Telephone: 202-401-9365 Email: Lynda.Perez@acf.hhs.gov.

SUPPLEMENTARY INFORMATION: The OCS Community Economic Development (CED) program announces the award of $196,633 to El Pajaro Community Development Corporation (EPCDC), in Watsonville, CA. CED is a Federal grant program funding Community Development Corporations (CDCs) that address the economic needs of low-income individuals and families through the creation of sustainable business development and employment opportunities. CED funds are used to development activities, to assist those individuals in successfully maintaining employment, and to ensure that the businesses and jobs created remain viable for at least one year after the end of the grant period.

Award funds will support renovation of food packing facility that is co-connect to a commercial kitchen at the same site. Funds will be used to resolve construction concerns that are needed to finalize building permit and occupancy approval. In addition, funds will be used to help capitalize business start-ups as needed to create the jobs for individuals with low-income.

Statutory Authority: Section 680(a)(2) of the Community Services Block Grant (CSBG) Act of 1981, as amended by the Community Opportunities, Accountability, and Training and Educational Services Act of 1998 (Pub. L. 105-285), as amended.

Elizabeth Leo,
Senior Grant Policy Specialist, Office of Grants Policy, Office of Administration.

[FR Doc. 2021-21420 Filed 9-28-21; 4:15 pm]

BILLING CODE 4184-24-P